DEPARTMENT OF THE INTERIOR

Fish and Wildlife Service

Notice of Intent To Prepare a Comprehensive Conservation Plan and Environmental Assessment for D'Arbonne National Wildlife Refuge Located in Union and Ouachita Parishes, Louisiana

AGENCY: Fish and Wildlife Service, Interior

SUMMARY: The Fish and Wildlife Service, Southeast Region, intends to gather information necessary to prepare a comprehensive conservation plan and environmental assessment pursuant to the National Environmental Policy Act and its implementing regulations. The Service is furnishing this notice in compliance with the National Wildlife Refuge System Administration Act of 1966, as amended (16 U.S.C. 668dd et. seq.), to achieve the following:

(1) Advise other agencies and the public of our intentions, and

(2) Obtain suggestions and information on the scope of issued to include in the environmental document.

Special mailings, newspaper articles, and other media announcements will be used to inform the public and state and local government agencies of the opportunities for input throughout the planning process. An open house style meeting will be held during the scoping phase of the comprehensive conservation plan development process.

DATES: To ensure consideration, we must receive written comments on or before April 30, 2004.

ADDRESSES: Address comments, questions, and requests for more information to Lindy Garner, Planning Biologist, North Louisiana National Wildlife Refuge Complex, 11372 Highway 143, Farmerville, Louisiana 71241.

SUPPLEMENTARY INFORMATION: By Federal law, all lands within the National Wildlife Refuge System are to be managed in accordance with an approved comprehensive conservation plan. This plan guides management decisions and identifies the goals, long-range objectives, and strategies for achieving refuge purposes. The planning process will consider many elmenets, including wildlife and habitat management, public recreational activities, and cultural resource protection. Public input into this planning process is essential.

D'Arbonne National Wildlife Refuge, established in 1975, is located within the Lower Mississippi River Valley floodplain in north Louisiana. The refuge is located approximately 6 miles north of West Monroe Louisiana. The refuge's 17,421 acres include deep overflow swamp, bottomland hardwood forests, and upland mixed pine/hardwoods. D'Arbonne Refuge provides habitat for thousands of wintering waterfowl, wading birds, waterbirds, and year-round habitat for nesting wood ducks, squirrels, deer, river otters, and raccoons. The refuge is open year-round for wildlife observation, nature photography, and hiking. Hunting and fishing opportunities are permitted on most areas of the refuge.

FOR FURTHER INFORMATION CONTACT: Planning Biologist, North Louisiana National Wildlife Refuge Complex, telephone: 318/726-4222; fax 318/726-4667; e-mail: lindy_garner@fws.gov; or mail (write to the Planning Biologist at address in the ADDRESSES Section).

Authority: This notice is published under the authority of the National Wildlife Refuge System Improvement Act of 1997, Public Law 105-57.

Dated: February 27, 2004.
J. Mitch King,
Acting Regional Director.

[FR Doc. 04-5854 Filed 3-15-04; 8:45 am]

BILLING CODE 4310-55-M